DEPARTMENT OF DEFENSE

[Docket ID: DoD-2021-OS-0002]

Submission for OMB Review; Comment Request

AGENCY: Office of the Under Secretary of Defense for Personnel and Readiness, Department of Defense (DoD).

ACTION: 30-day information collection notice.

SUMMARY: The Department of Defense has submitted to OMB for clearance the following proposal for collection of information under the provisions of the Paperwork Reduction Act.

DATES: Consideration will be given to all comments received by May 21, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela James, 571-372-7574, orwhs.mc-alex.esd.mbx.dd-dod-information-collections@mail.mil.

SUPPLEMENTARY INFORMATION:

Title; Aassociated Form; and OMB Number: Needs Assessment of Child and Youth Non-Medical Counseling; 0704-XXXX.

Type of Request: New.

Number of Respondents: 180.

Responses per Respondent: 1.

Annual Responses: 180.

Average Burden per Response: 15 minutes.

Annual Burden Hours: 45 hours.

Needs and Uses: In order for the DoD to best and most efficiently serve the needs of military children, it is important to know how the CYB-MFLC program fits within the landscape of family and child support systems to meet the needs and expectations of stakeholders. It is also important to identify where gaps in services remain and to identify the emerging needs of military children and youth that could be potentially filled or addressed by the CYB-MFLC program. Assessing how prevalent those needs and gaps are, and whether there is variation in these needs across locations, will inform modifications to the program to strengthen alignment of the scope of its services with other sources of support, resulting in improved coordinated care for military children in the school environment.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: April 15, 2021.
Aaron T. Siegel,
Alternate OSD Federal Register Liaison Officer, Department of Defense.

[FR Doc. 2021-08198 Filed 4-20-21; 8:45 am]

BILLING CODE 5001-06-P